DEPARTMENT OF ENERGY

Federal Energy Regulatory Commission

[Docket No. IC20-14-000]

Commission Information Collection Activities (FERC-725T); Comment Request; Extension

AGENCY: Federal Energy Regulatory Commission, DOE.

ACTION: Notice of information collection and request for comments.

SUMMARY: In compliance with the requirements of the Paperwork Reduction Act of 1995 (PRA), the Federal Energy Regulatory Commission (Commission or FERC) is soliciting public comment on the currently approved information collection, FERC-725T, (Mandatory Reliability Standards for the Bulk-Power System: TRE Reliability Standards) and submitting the information collection to the Office of Management and Budget (OMB) for review. Any interested person may file comments directly with OMB and should address a copy of those comments to the Commission as explained below.

DATES: Comments on the collection of information are due July 31, 2020.

ADDRESSES: Send written comments on FERC-725 to OMB through www.reginfo.gov/public/do/PRAMain, Attention: Federal Energy Regulatory Commission Desk Officer. Please identify the OMB control number (1902-0273) in the subject line. Your comments should be sent within 30 days of publication of this notice in the Federal Register.

Please submit copies of your comments to the Commission (identified by Docket No. IC20-14-000) by either of the following methods:

• eFiling at Commission's Website: http://www.ferc.gov/docs-filing/efiling.asp.

• Mail/Hand Delivery/Courier: Federal Energy Regulatory Commission, Secretary of the Commission, at Health and Human Services, 12225 Wilkins Avenue, Rockville, Maryland 20852.

Instructions: All submissions must be formatted and filed in accordance with submission guidelines at: www.reginfo.gov/public/do/PRAMain; Using the search function under the “Currently Under Review field,” select Federal Energy Regulatory Commission; click “submit” and select “comment” to the right of the subject collection.

FERC submissions must be formatted and filed in accordance with submission guidelines at: http://www.ferc.gov/help/submission-guide.asp. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663.

SUPPLEMENTARY INFORMATION: Title: FERC-725T, Mandatory Reliability Standards for the Bulk-Power System: TRE ¹ Reliability Standards.

¹ Texas Reliability Entity.

OMB Control No.: 1902-0273.

Type of Request: Three-year extension of the FERC-725T information collection requirements with no changes to the current reporting requirements.

Abstract: TRE Reliability Standards apply to entities registered as Generator Owners (GOs), Generator Operators (GOPs), and Balancing Authorities (BAs) within the Texas Reliability Entity region.

The information collection requirements entail the setting or configuration of the Control System software, identification and recording of events, data retention, and submitting frequency measurable events to the compliance enforcement authority (Regional Entity or NERC).

Submitting frequency measurable events. The BA has to identify and post information regarding Frequency Measurable Events (FME). Further, the BA has to calculate and report to the Compliance Enforcement Authority data related to Primary Frequency Response (PFR) performance of each generating unit/generating facility.

Data retention. The BA, GO, and GOP shall keep data or evidence to show compliance, as identified below, unless directed by its Compliance Enforcement Authority to retain specific evidence for a longer period of time as part of an investigation. Compliance audits are generally about three years apart.

• The BA shall retain a list of identified Frequency Measurable Events and shall retain FME information since its last compliance audit.

• The BA shall retain all monthly PFR performance reports since its last compliance audit.

• The BA shall retain all annual Interconnection minimum Frequency Response calculations, and related methodology and criteria documents, relating to time periods since its last compliance audit.

• The BA shall retain all data and calculations relating to the Interconnection's Frequency Response, and all evidence of actions taken to increase the Interconnection's Frequency Response, since its last compliance audit.

• Each GOP and GO shall retain evidence since its last compliance audit.

Type of Respondents: NERC Registered entities: Balancing Authorities, Generator Owners, Generator Operators.

Estimate of Annual Burden ²: The Commission estimates the annual public reporting burden for the information collection as:

² Burden is defined as the total time, effort, or financial resources expended by persons to generate, maintain, retain, or disclose or provide information to or for a Federal agency. For further explanation of what is included in the information collection burden, reference 5 Code of Federal Regulations 1320.3.

FERC-725T (Mandatory Reliability Standards for the Bulk-Power System: TRE Reliability Standards)
| Number of respondents | Annual number of responses per respondent | Total number of responses | Average burden and cost per response ³ | Total annual burden hours and total annual cost | Cost per respondent ($)
| (1) | (2) | (1) * (2) = (3) | (4) | (3) * (4) = (5) | (5) ÷ (1)
Maintenance and Submission of Event Log Data | ⁴ 1 | 1 | 1 | 16 hrs.; $821.44 | 16 hrs.; $821.44 | $821.44
Evidence Retention | ⁵ 130 | 1 | 130 | 2 hrs.; $102.68 | 260 hrs.; $13,348.4 | 102.68
Total |  |  | 131 |  | 276 hrs.; $14,169.84

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ the figures for May 2018 posted by the Bureau of Labor Statistics for the Utilities sector (available at http://www.bls.gov/oes/current/naics2_22.htm) and updated March 2019 for benefits information (at http://www.bls.gov/news.release/ecec.nr0.htm). The hourly estimates for salary plus benefits are:

—File Clerks (code 43-4071), $34.50.

—Electrical Engineer (code 17-2071), $68.17.

The average hourly burden cost for this collection is $51.34 [$34.50 + $68.17 = 51.335] and is rounded to $51.34.

⁴ BA (balancing authority).

⁵ BA (balancing authority), GO (generator owner), and GOP (generator operator).

Dated: June 25, 2020.
Kimberly D. Bose,
Secretary.

[FR Doc. 2020-14183 Filed 6-30-20; 8:45 am]

BILLING CODE 6717-01-P